OFFICE OF MANAGEMENT AND BUDGET

[OMB Control No. O348-NEW]

Information Collection; Improving Customer Experience (OMB Circular A-11, Section 280 Implementation)

AGENCY: The Office of Management and Budget.

ACTION: Notice; request for comment.

SUMMARY: The Office of Management and Budget (OMB) as part of its continuing effort to reduce paperwork and respondent burden, is announcing an opportunity for public comment on a new proposed collection of information by the Agency. Under the Paperwork Reduction Act of 1995 (PRA), Federal Agencies are required to publish notice in the Federal Register concerning each proposed collection of information, and to allow 60 days for public comment in response to the notice. This notice solicits comments on new collection proposed by the Agency.

DATES: Submit comments on or before: March 15, 2022.

ADDRESSES: Submit comments identified by Information Collection 0348-NEW, Improving Customer Experience (OMB Circular A-11, Section 280 Implementation), by any of the following methods:

• Federal eRulemaking portal: https://www.regulations.gov. Follow the instructions for submitting comments. Comments submitted electronically, including attachments to https://www.regulations.gov, will be posted to the docket unchanged.

Instructions: Please submit comments only and cite Information Collection 0348-NEW, Improving Customer Experience (OMB Circular A-11, Section 280 Implementation), in all correspondence related to this collection. To confirm receipt of your comment(s), please check regulations.gov, approximately two to three business days after submission to verify posting (except allow 30 days for posting of comments submitted by mail).

FOR FURTHER INFORMATION CONTACT: Requests for additional information should be directed to Amira Boland, Office of Management and Budget, 725 17th St. NW, Washington, DC 20006, 202-395-0380, or via email to amira.c.boland@omb.eop.gov.

SUPPLEMENTARY INFORMATION:

A. Purpose

Under the PRA, (44 U.S.C. 3501-3520) Federal Agencies must obtain approval from OMB for each collection of information they conduct or sponsor. “Collection of information” is defined in 44 U.S.C. 3502(3) and 5 CFR 1320.3(c) and includes Agency requests or requirements that members of the public submit reports, keep records, or provide information to a third party. Section 3506(c)(2)(A) of the PRA requires Federal Agencies to provide a 60-day notice in the Federal Register concerning each proposed collection of information, including each proposed extension of an existing collection of information, before submitting the collection to OMB for approval. To comply with this requirement, OMB is publishing notice of the proposed collection of information set forth in this document.

Whether seeking a loan, Social Security benefits, veterans benefits, or other services provided by the Federal Government, individuals and businesses expect Government customer services to be efficient and intuitive, just like services from leading private-sector organizations. Yet on Forrester's 2020 CX Index, the Federal sector's average score is 10.7 points behind the private sector average and lower than any other industry or sector studied. Nearly half of the bottom 5% of the U.S. CX Index Rankings are Federal agencies.

The President's Management Agenda (see https://www.performance.gov/PMA) prioritizes efforts to improve the experience of those the Government serves—all of the people, families, businesses, organizations, and communities across America, especially those communities that have been historically underserved by Government, when they use Government services. This focus on customer experience will not only improve the delivery, efficiency, security, and effectiveness of our Government programs, it will advance equity and enhance everyday interactions with public services and uplift the lives of those who need them the most. To support this, OMB Circular A-11 Section 280 establishes Government-wide standards for mature customer experience organizations in government and measurement. In order for Federal programs to design and deliver the experience taxpayers deserve, they must often undertake three general categories of activities: Conduct ongoing customer research, gather and share customer feedback, and test services and digital products. Both the PMA and Section 280 charge the President's Management Council—the primary Government-wide body that advises the President and OMB on management issues that span agencies—with the routine designation of cross-agency “life experiences” for improvement (such as turning 65, surviving a natural disaster, or having a child) that do not fit neatly within one agency's mission area.

For these projects, OMB designers and staff, such as the those on the Federal Customer Experience team or at the U.S. Digital Service, may lead and coordinate information collections in service of cross-agency life experience improvement efforts. These data collection efforts may be either qualitative or quantitative in nature or may consist of mixed methods. Additionally, data may be collected via a variety of means, including but not limited to electronic or social media, direct or indirect observation (i.e., in person, video, and audio collections), interviews, questionnaires, surveys, and focus groups. OMB will limit its inquiries to data collections that solicit strictly voluntary opinions or responses. Steps will be taken to ensure anonymity of respondents in each activity covered by this request, where appropriate.

The results of the data collected will be used to improve the delivery of Federal services and programs, and in particular, those experiences that are more Government-wide in nature. It will include the creation of customer personas, customer journey maps (for a definition of and more information on customer personas and journey maps, see https://performance.gov/cx/projects), and reports and summaries of customer feedback data and user insights. It will also provide Government-wide data on customer experience that can be displayed on Performance.gov to help build transparency and accountability of Federal programs to the customers they serve.

Method of Collection

OMB will collect this information by electronic means when possible, as well as by mail, fax, telephone, technical discussions, and in-person interviews. OMB may also utilize observational techniques to collect this information.

Data

Form Number(s): None.

Type of Review: New.

B. Annual Reporting Burden

Affected Public: Collections will be targeted to the solicitation of opinions from respondents who have experience with the program or may have experience with the program in the near future. For the purposes of this request, “customers” are individuals, businesses, and organizations that interact with a Federal Government agency or program, either directly or via a Federal contractor. This could include individuals or households; businesses or other for-profit organizations; not-for-profit institutions; State, local, Tribal, or territorial governments; and universities.

Estimated Number of Respondents: 2,001,550.

Estimated Time per Response: Varied, dependent upon the data collection method used. The possible response time to complete a questionnaire or survey may be 3 minutes or up to 1.5 hours to participate in an interview.

Estimated Total Annual Burden Hours: 101,125.

Estimated Total Annual Cost to Public: $2,737,454.

C. Public Comments

OMB invites comments on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology. Comments submitted in response to this notice will be summarized or included in the request for OMB approval of this information collection; they also will become a matter of public record.

Jason S. Miller,
Deputy Director of Management.

[FR Doc. 2022-00662 Filed 1-13-22; 8:45 am]

BILLING CODE 3110-01-P